DEPARTMENT OF HOMELAND SECURITY

Transportation Security Administration

Notice of Intent To Request Approval From the Office of Management and Budget (OMB) for the Renewal of a Public Collection of Information; Aircraft Operator Security

AGENCY: Transportation Security Administration (TSA), DHS.

ACTION: Notice.

SUMMARY: TSA invites public comment on the information collection requirement abstracted below that will be submitted to OMB for renewal in compliance with the Paperwork Reduction Act of 1995.

DATES: Send your comments by January 26, 2004.

ADDRESSES: Conrad Huygen, Privacy Act Officer, Information Management Programs, TSA Headquarters, West Tower 412-S, TSA-17, 601 S. 12th Street, Arlington, VA 22202-4220; telephone (571) 227-1954; facsimile (571) 227-2912.

FOR FURTHER INFORMATION CONTACT: See ADDRESSES, above.

SUPPLEMENTARY INFORMATION: In accordance with the Paperwork Reduction Act of 1995, (44 U.S.C. 3501, et seq.), an agency may not conduct or sponsor, and a person is not required to respond to a collection of information, unless it displays a valid OMB control number. Therefore, in preparation for submission of clearance of the following information collection, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

TSA is seeking to renew information collection request number 1652-0003, which was originally obtained by the Federal Aviation Administration (FAA) to ensure compliance with the standards that were developed and implemented at 14 CFR part 108. The Aviation and Transportation Security Act of 2001 (ATSA), Pub. L. 107-71, transferred the responsibility for civil aviation security from the FAA to TSA. In February 2002, TSA implemented aircraft operator security standards at 49 CFR part 1544, while 14 CFR part 108 was repealed. This regulation requires aircraft operators to maintain and update their security programs for inspection by TSA to ensure security, safety, and regulatory compliance. TSA estimates the 83 respondent air carriers will carry a burden of 43,160 hours per year and encourages all interested parties to comment on this burden estimate.

Issued in Arlington, Virginia, on November 21, 2003.
Susan T. Tracey,
Deputy Chief Administrative Officer.

[FR Doc. 03-29578 Filed 11-25-03; 8:45 am]

BILLING CODE 4910-62-P